SECURITIES AND EXCHANGE COMMISSION

Sunshine Act Meeting

Notice is hereby given, pursuant to the provisions of the Government in the Sunshine Act, Pub. L. 94-409, that the Securities and Exchange Commission will hold the following meeting during the week of October 27, 2003:

An Open Meeting will be held on Wednesday, October 29, 2003 at 10 a.m., in Room 6600.

The subject matter of the Open Meeting scheduled for Wednesday, October 29, 2003 will be:

1. The Commission will hear oral argument on an appeal by the Division of Enforcement and the Office of the Chief Accountant (together, the “Division”) from the decision of an administrative law judge in a proceeding brought against James Thomas McCurdy, a certified public accountant. The administrative law judge found that McCurdy did not engage in improper professional conduct within the meaning of Rule 102(e) of the Commission's Rules of Practice in connection with his audit of the financial statements of JWB Aggressive Growth Fund (the “Fund”), a registered investment company, for the year ending December 31, 1998. The law judge found that McCurdy's audit of the Fund's financial statements was not performed in accordance with generally accepted auditing standards (“GAAS”), primarily because McCurdy failed to obtain sufficient competent evidence about the probable collectibility of a receivable that was recorded as an asset in the Fund's financial statements. The law judge also found that the record did not establish the charge that the Fund's financial statements were not in accordance with generally accepted accounting principles (“GAAP”) because the Division did not establish that the receivable was not collectible. The law judge further found that McCurdy's professional conduct was neither reckless nor highly unreasonable and thus did not constitute a violation of Rule 102(e) as charged. The law judge therefore dismissed the charges against McCurdy.

Among the issues likely to be argued are:

1. whether McCurdy obtained sufficient competent evidence about the collectibility of the receivable.

2. whether the Fund's financial statements were in accordance with GAAP.

3. whether McCurdy's audit of the Fund's financial statements were in accordance with GAAS.

4. whether McCurdy's professional conduct was reckless or highly unreasonable.

5. if McCurdy's conduct was reckless or highly unreasonable, whether sanctions should be imposed in the public interest.

For further information, please contact the Office of the Secretary at (202) 942-7070.

At times, changes in Commission priorities require alterations in the scheduling of meeting items. For further information and to ascertain what, if any, matters have been added, deleted or postponed, please contact: The Office of the Secretary at (202) 942-7070.

Dated: October 21, 2003.
Jonathan G. Katz,
Secretary.

[FR Doc. 03-26972 Filed 10-21-03; 5:00 pm]

BILLING CODE 8010-01-P